DEPARTMENT OF HEALTH AND HUMAN SERVICES

National Institutes of Health

Notice of Intent To Prepare an Environmental Impact Statement for an Integrated Research Facility at Fort Detrick, Frederick, MD

AGENCY: National Institutes of Health (NIH), DHHS.

ACTION: Notice of intent to prepare an environmental impact statement for an integrated research facility at Fort Detrick, Frederick, Maryland.

SUMMARY: The Department of Health and Human Services (DHHS), National Institutes of Health (NIH), announces its intent to prepare an environmental impact statement (EIS) to evaluate a proposed new Integrated Research Facility for the NIH, at Fort Detrick in Frederick, Maryland. This EIS is being prepared and considered in accordance with requirements of the National Environmental Policy Act (NEPA) of 1969, regulations of the President's Council on Environmental Quality (40 CFR parts 1500-1508), NEPA Compliance Procedures of the DHHS General Administration Manual, Part 30 (Environmental Protection), 25 February 2000, and Army Regulation 200-2, Environmental Analysis of Army Actions (32 CFR 651), 29 March 2002.

Cooperating Agencies: The U.S. Army, as owner of the site of the proposed Integrated Research Facility, is a cooperating agency in this EIS.

SUPPLEMENTARY INFORMATION: The National Institute of Allergies and Infectious Diseases (NIAID), a component of the NIH, conducts and supports research of infectious diseases and the human immune system, with an emphasis on emerging and re-emerging diseases such as HIV/AIDS and other sexually transmitted diseases, tuberculosis, malaria, asthma, and allergies. Its resources and expertise have been applied to studying organisms that might be used as agents of bioterrorism and the response of the human immune system to those organisms. This knowledge will be used to develop new and improved diagnostic tests, vaccines, and therapies to protect civilians.

Since fall 2001, NIAID has greatly accelerated its biodefense research program. Achievement of the research goals requires the construction and certification of biological containment laboratories, with facilities and procedures for handling potentially lethal agents. Equally important is the need to minimize potential threats from infectious agents to laboratory and clinical personnel working within these facilities and to adjacent communities. The Federal Government has approved $105 million to fund a facility for biodefense and emerging infectious diseases research on Fort Detrick in Frederick, Maryland, as a crucial element of this NIH construction initiative.

The proposed action is construction and operation by NIH of a new building comprised of laboratories designed and constructed to Biosafety Levels -2, -3, and -4 standards, that will enable NIAID researchers to study disease-causing microbes that may be used as agents of terrorism. The proposed new facility will have imaging capabilities and will include administrative support offices. It will occupy an approximately 6-acre plot near offices, laboratory facilities, and supporting services of the U.S. Army Medical Research Institute of Infectious Diseases (USAMRIID), in accordance with a Congressional mandate. NIAID and USAMRIID have worked together for many years on developing new vaccines and diagnostic procedures in biodefense, as well as on HIV/AIDS research. Scientists of both agencies have had extensive experience with research in BSL-3 and -4 laboratories.

Significant issues to be analyzed in the EIS will include safety of laboratory operations; public health and safety; handling, collection, treatment, and disposal of biomedical research waste related to the proposal; and analysis of other risks, as well as concerns for pollution prevention and impacts of the proposed action on air quality, biological resources, cultural resources, water resources, land use, and socioeconomic resources. Several alternatives will be considered, including siting the new facility at another location on the grounds of Fort Detrick and a No-Action alternative, under which the new facility would not be built. Additional alternatives may be identified in the Public Scoping process.

Public Participation: The DHHS and the U.S. Army invite full public participation to promote open communication and better decision-making. All interested persons and organizations, including minority, low-income, disadvantaged, and Native American groups, are urged to participate in this NEPA environmental analysis process. Assistance will be provided upon request to anyone having difficulty with learning how to participate.

To ensure that the full range of issues related to this proposed action and the scope of this EIS are addressed, oral and written comments are invited from all interested parties, including appropriate Federal, State, and local agencies, and private organizations and citizens. Pursuant to this, a Public Scoping meeting will be held on Wednesday, April 16, 2003, at 7 p.m. at the Whittier Elementary School, 2400 Whittier Drive, Frederick, Maryland.

Comments on the scope of the EIS for the proposed project should be received no later than April 28, 2003. Comments and questions should be directed to the address listed below. Public comments are welcomed anytime throughout the NEPA process and should be directed to the address listed below. Additional formal opportunities for public participation after the Public Scoping are tentatively scheduled as follows:

Review and Comment on the Draft EIS (including a public meeting): August 2003.

Review of the Final EIS: December 2003.

Notices of availability for the Draft EIS, Final EIS, and Record of Decision will be provided through direct mail, the Federal Register, and other media. Notifications also will be sent to Federal, State, and local agencies and persons and organizations that submit comments or questions. Precise schedules and locations for public meetings will be announced in the local news media. Interested individuals and organizations may request to be included on the mailing list for public distribution of meeting announcements and associated documents.

FOR FURTHER INFORMATION CONTACT: Ron Wilson, Office of Facilities Planning, National Institutes of Health, 31 Center Drive, Room 3B44, MSC 2162, Bethesda, MD 20892-2162; by telephone (301) 496-5037; fax (301) 402-0017; or e-mail wilsoron@ors.od.nih.gov.

Authority: 42 U.S.C. 4321-4347 (National Environmental Policy Act).

Dated: March 24, 2003.
Stephen A. Ficca,
Associate Director for Research Services, National Institutes of Health.

[FR Doc. 03-7404 Filed 3-25-03; 9:42 am]

BILLING CODE 4140-01-P